DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are made available for licensing by the Department of the Navy.

U.S. Patent Number 6,546,798, entitled “Micro-Electro-Mechanical Systems Resonant Optical Gyroscope,” issue date April 4, 2003. U.S. Patent Number 6,550,330, entitled “Differential Amplification for Micro-Electro-Mechanical Ultra-Sensitive Accelerometer,” issued April 22, 2003. U.S. Patent Number 6,581,465, entitled “Micro-electro-mechanical systems ultra sensitive accelerometer,” issued June 24, 2003. U.S. Patent Number 6,763,718, entitled “Micro-Electro-Mechanical Ultra-Sensitive Accelerometer with Independent Sensitivity Adjustment,” issued July 20, 2004. U.S. Patent Pending, entitled “Integrated Circuit Porphyrin-Based Optical Chemical Sensor,” Navy Case Number 84715. U.S. Patent Pending, entitled “Wireless Remote Sensor and Method for Making Same,” Navy Case Number 84769. U.S. Patent Pending, entitled “Micro-Electro-Mechanical Systems Magnetic Vibration Power Generator,” Navy Case Number 84774.

ADDRESSES: Requests for copies of the patents cited should be directed to the Space and Naval Warfare Center, San Diego, Office of Research and Technology Applications, Code 2112, 83570 Silvergate Ave., San Diego, CA 92152-5048.

FOR FURTHER INFORMATION CONTACT: Dr. Stephen H. Lieberman, Office of Research and Technology Applications, Space and Naval Warfare Systems Center, San Diego, Code 2112, 83570 Silvergate Ave., Room 2302, San Diego, CA 92152-5048. Telephone 619-553-2778, E-Mail: stephen.lieberman@navy.mil.

Authority: 35 U.S.C. 207, 37 CFR part 404.

Dated: December 5, 2005.
Eric McDonald,
Lieutenant Commander, Judge Advocate General's Corps, U.S. Navy, Federal Register Liaison Officer.

[FR Doc. E5-7292 Filed 12-13-05; 8:45 am]

BILLING CODE 3810-FF-P